CIVIL RIGHTS COMMISSION

Sunshine Act Meeting Notice

AGENCY: United States Commission on Civil Rights.

ACTION: Notice of Commission public business meeting.

DATES: Friday, March 16, 2018, 10:00 a.m. EST.

ADDRESSES: Place: National Place Building, 1331 Pennsylvania Ave. NW, Suite 1150, Washington, DC 20245 (Entrance on F Street NW).

FOR FURTHER INFORMATION CONTACT: Brian Walch, phone: (202) 376-8371; TTY: (202) 376-8116; email: publicaffairs@usccr.gov.

SUPPLEMENTARY INFORMATION: This business meeting is open to the public. There will also be a call-in line for individuals who desire to listen to the presentations: (877) 857-6177; Conference ID 979-8957.

Persons with disabilities who need accommodation should contact Pamela Dunston at (202) 376-8105 or at access@usccr.gov at least seven (7) business days before the scheduled date of the meeting.

Meeting Agenda

I. Approval of Agenda

II. Business Meeting

A. Presentation from Maine Advisory Committee member Rachel Talbot Ross on the Committee's Advisory Memorandum on Racial Discrimination in Criminal Prosecution and Sentencing in Maine

B. Presentation from Maryland Advisory Committee Chair Tom Mackall on the Committee's Advisory Memorandum on Fees and Fines and Bail Reform in Maryland

C. Presentation from Illinois Advisory Committee Chair Juan Carlos Linares on the Committee's report Civil Rights and Voting in Illinois

D. Discussion and Vote on Timeline, Discovery Plan, and Outline for Commission project, “In the Name of Hate: Examining the Federal Government's Role in Preventing Hate Crimes”

E. Management and Operations

• Staff Director's Report

F. Commemoration of Women's History Month

• Page Harrington, Historian and Preservationist

• Fatima Goss Graves, President and CEO, National Women's Law Center

III. Adjourn Meeting

Dated: March 7, 2018.
Brian Walch,
Director, Communications and Public Engagement.

[FR Doc. 2018-04915 Filed 3-7-18; 4:15 pm]

BILLING CODE 6335-01-P